ENVIRONMENTAL PROTECTION AGENCY

40 CFR Part 52

[EPA-R06-OAR-2010-0252; FRL-9269-8]

Approval and Promulgation of Air Quality Implementation Plans; Texas; Revisions To Control Volatile Organic Compound Emissions From Consumer Related Sources

AGENCY: Environmental Protection Agency (EPA).

ACTION: Proposed rule.

SUMMARY: The EPA is proposing to approve revisions to the Texas State Implementation Plan (SIP) that amend Title 30 of the Texas Administrative Code (TAC), Chapter 115, Control of Air Pollution from Volatile Organic Compounds. The State submitted these revisions on March 4, 2010. These revisions remove the Texas Portable Fuel Container rule as an ozone control strategy from the Texas SIP for the Control of Ozone Air Pollution. In the submittal, Texas demonstrates that federal portable fuel container standards promulgated by EPA in 2007 are expected to provide equal to or greater emissions reductions than those resulting from the state regulations. The EPA is proposing to approve this SIP revision because it is expected that reliance on the more stringent federal portable fuel container standards will ensure that emission reductions equivalent to or greater than those in the repealed Texas portable fuel container regulations will continue to be achieved in the State of Texas. Accordingly, it is expected that this SIP revision will not have a negative impact neither on the emission reductions claimed in the Texas SIP, nor in Texas' attainment of the NAAQS for ozone. This SIP revision eliminates the redundancy that has been created with the adoption by EPA of the federal portable fuel container regulations in 2007. The EPA is proposing to approve these revisions pursuant to section 110 of the Federal Clean Air Act (CAA).

DATES: Written comments must be received on or before March 28, 2011.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Ms. Dayana Medina, Air Planning Section (6PD-L), Multimedia Planning and Permitting Division, U.S. Environmental Protection Agency, Region 6, 1445 Ross Avenue, Suite 700, Dallas, Texas 75202-2733, telephone (214) 665-7241; fax number 214-665-7263; e-mail address medina.dayana@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule, which is located in the rules section of this Federal Register.

Dated: February 9, 2011.
Al Armendariz,
Regional Administrator, Region 6.

[FR Doc. 2011-3994 Filed 2-23-11; 8:45 am]

BILLING CODE 6560-50-P